NUCLEAR REGULATORY COMMISSION

Notice of a Website for the Interagency Steering Committee on Radiation Standards

SUMMARY: This notice announces the website for the Interagency Steering Committee on Radiation Standards (ISCORS) at www.iscors.org. ISCORS was formed in response to an October 27, 1994, letter from Senator John Glenn to the U.S. Nuclear Regulatory Commission (NRC), U.S. Environmental Protection Agency (EPA), and the Office of Science and Technology Policy (OSTP). In this letter, Senator Glenn charged EPA and the NRC, in coordination with the Committee on Interagency Radiation Research and Policy Coordination (CIRRPC), to develop a plan for a “path forward” to address the inconsistencies, gaps, and overlaps in current radiation protection standards. ISCORS is also one of the committees OSTP recommended for achieving the goals of the now defunct CIRRPC.

The objectives of ISCORS include:

(1) Facilitating a consensus on acceptable levels of radiation risk to the public and workers;

(2) Promoting consistent risk assessment and risk management approaches in setting and implementing standards for occupational and public protection from ionizing radiation;

(3) Promoting completeness and coherence of Federal standards for radiation protection; and

(4) Identifying interagency issues and coordinating their resolution.

Since its inception, NRC and EPA have co-chaired ISCORS. The current co-chairs are John T. Greeves, NRC, and Frank Marcinowski, EPA. In addition to NRC and EPA, ISCORS membership also includes senior managers from the Department of Defense, Department of Energy, Department of Labor's Occupational Safety and Health Administration, Department of Transportation, and Department of Health and Human Services; representatives of the Office of Management and Budget (OMB), OSTP, and the States are observers at meetings.

ISCORS meetings involve pre-decisional intragovernmental discussions and, as such, are not normally open for observation by members of the public or media. However, summary meeting notes are available in NRC's Public Document Room and now will be made available at the website. ISCORS meets approximately once each calendar quarter.

The full ISCORS committee establishes subcommittees to conduct the committee's technical work. The full committee establishes these subcommittees as needed to address specific issues of concern or significant interest to ISCORS. ISCORS has formed the following subcommittees: Cleanup; mixed waste; recycle; risk harmonization; sewage sludge; naturally occurring radioactive materials (NORM); and Federal guidance. The subcommittees minutes and activities will also be available at the website.

FOR FURTHER INFORMATION CONTACT: Patricia A. Santiago, Division of Waste Management, Office of Nuclear Material Safety and Safeguards, U.S. Nuclear Regulatory Commission at (301) 415-7269; or Behram Shroff, Office of Air and Radiation, U.S. Environmental Protection Agency at (202) 564-9707.

Dated at Rockville, Maryland this 5th day of May, 2000.
For the Nuclear Regulatory Commission.
John T. Greeves,
Director, Division of Waste Management, Office of Nuclear Material Safety and Safeguards.

[FR Doc. 00-11800 Filed 5-10-00; 8:45 am]

BILLING CODE 7590-01-P